FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017473F.

Name: Eagle Pacific, Corp.

Address: 182-16 149th Road, Rm. 288, Jamaica, NY 11413.

Date Revoked: November 12, 2004.

Reason: Failed to maintain a valid bond.

License Number: 003621F.

Name: I.C.C. Products, Inc. dba I.C.C. Cargo Services.

Address: 9939 NW. 89th Avenue, Bay 2, Medley, FL 33178.

Date Revoked: November 15, 2004.

Reason: Failed to maintain a valid bond.

License Number: 017600N.

Name: KTL International, Inc.

Address: 1280 Louis Avenue, Elk Grove Village, IL 60007.

Date Revoked: November 12, 2004.

Reason: Surrendered license voluntarily.

License Number: 015646N.

Name: Universe Freight Brokers, Inc. dba Seacarriers.

Address: 3625 NW. 82nd Avenue, Suite 401, Miami, FL 33126.

Date Revoked: October 30, 2004.

Reason: Failed to maintain a valid bond.

Sandra L. Kusumoto,
Director, Bureau of Certification and Licensing.

[FR Doc. 04-27441 Filed 12-14-04; 8:45 am]

BILLING CODE 6730-01-P